GENERAL SERVICES ADMINISTRATION

[Notice-PBS-2017-01; Docket No. 2017-0002; Sequence No. 4]

Notice of Intent To Prepare an Environmental Impact Statement for the Proposed Master Plan for the Consolidation of the U.S. Food and Drug Administration Headquarters at the Federal Research Center at White Oak, Located in Silver Spring, MD

AGENCY: National Capital Region, General Services Administration (GSA).

ACTION: Notice of intent to prepare an Environmental Impact Statement.

SUMMARY: Pursuant to the requirements of the National Environmental Policy Act of 1969 (NEPA), the Council on Environmental Quality Regulations, GSA Order, PBS P1095.1F, Environmental Considerations in Decision Making, dated October 19, 1999, and the GSA Public Buildings Service NEPA Desk Guide, GSA plans to prepare an Environmental Impact Statement (EIS) for the proposed Master Plan to support the consolidation of the U.S. Food and Drug Administration (FDA) Headquarters at the Federal Research Center at White Oak, located in Silver Spring, Maryland.

DATES:

Applicable: Friday, August 18, 2017.

The public scoping meeting date is: Tuesday, September 12, 2017, from 6:30 p.m. to 8:30 p.m., Eastern Daylight Time (EDT).

ADDRESSES: CHI Center, 10501 New Hampshire Avenue, Silver Spring, Maryland 20903.

FOR FURTHER INFORMATION CONTACT: Paul Gyamfi, GSA, National Capital Region, Public Buildings Service, Office of Planning and Design Quality, at 202-440-3405. Please contact this number if special assistance is needed to attend and participate in the scoping meeting.

SUPPLEMENTARY INFORMATION: GSA intends to prepare an Environmental Impact Statement (EIS) to analyze the potential impacts resulting from the proposed Master Plan to support the FDA Headquarters consolidation at the Federal Research Center (FRC) at White Oak, located in Silver Spring, Maryland.

Background

In 1997, GSA completed an EIS that analyzed the impacts from the consolidation of 5,975 FDA employees at the FRC. In 2005, GSA completed a Supplemental Environmental Impact Statement (SEIS) that analyzed the impacts of increasing the number of employees from 5,947 to 7,720 and the impacts of adding a new eastern access entrance point into the FRC. In 2009, GSA completed its second SEIS that analyzed the impacts of increasing the number of employees (from 7,720 to 8,889) needed to conduct the complex and comprehensive reviews mandated by new legislation. To accommodate future growth and further consolidate FDA operations, GSA is preparing an EIS to assess the impacts of an employee population increase, of up to an approximately 18,000 employees, over a period of 15 years.

The purpose of the proposed action is to provide a Master Plan for the FDA Campus at FRC to accommodate the projected growth. The need for the proposed action is to continue to support the FDA Headquarters consolidation at FRC, and provide the necessary office and laboratory space, in order to conduct the complex and comprehensive reviews mandated by Congress.

Alternatives Under Consideration

GSA will analyze a range of alternatives (including the no action alternative) for the proposed Master Plan of the FDA Headquarters, to increase the campus population by up to an approximately 18,000 employees over 15 years. As part of the EIS, GSA will study the impacts of each alternative on the human environment.

Scoping Process

In accordance with NEPA, a scoping process will be conducted to aid in determining the alternatives to be considered and the scope of issues to be addressed, as well as for identifying the significant issues related to the proposed Master Plan. Scoping will be accomplished through a public scoping meeting, direct mail correspondence to potentially interested persons, agencies, and organizations, and meetings with agencies having an interest in the Master Plan. It is important that Federal, regional, State, and local agencies, and interested individuals take this opportunity to identify environmental concerns that should be addressed during the preparation of the Draft EIS.

Public Scoping Meeting

A public scoping meeting will be held on Tuesday, September 12, 2017, from 6:30 p.m. to 8:30 p.m., EDT. The meeting will be an informal open house along with a brief presentation, where visitors may come, receive information, and give comments. GSA is publishing notices in the Washington Post, Montgomery County Sentinel, and Prince George's Sentinel announcing the meeting.

Written Comments

Agencies and the public are encouraged to provide written comments on the scoping issues in addition to, or in lieu of, giving their comments at the public scoping meeting. Written comments regarding the environmental analysis for the proposed Master Plan must be postmarked between Monday, August 21, 2017, and Monday, September 25, 2017, and sent to the following address: General Services Administration, Public Buildings Service, Office of Planning and Design Quality, Attention: Paul Gyamfi, 301 7th Street SW., Room 4004, Washington, DC 20407. Email: paul.gyamfi@gsa.gov using the subject line: FDA White Oak Master Plan Comment.

Dated: August 4, 2017.
Mina Wright,
Director, Office of Planning and Design Quality, Public Buildings Service, National Capital Region, General Services Administration.

[FR Doc. 2017-16945 Filed 8-10-17; 8:45 am]

BILLING CODE 6820-Y1-P